JUDICIAL CONFERENCE OF THE UNITED STATES

Hearings of the Judicial Conference Advisory Committee on Rules of Civil Procedure

Agency: Judicial Conference of the United States; Advisory Committee on Rules of Civil Procedure.

Action: Notice of Proposed Amendments and Open Hearings.

Summary: The Judicial Conference Advisory Committee on Rules of Civil Procedure has proposed amendments to the following rules:

Proposed Style Amendments to the Federal Rules of Civil Procedure

The Judicial Conference Advisory Committee on Federal Rules of Civil Procedure has completed its style revision of the Civil Rules in accordance with uniform drafting guidelines. The restyling of the Civil Rules is the third in a series of comprehensive revisions to simplify, clarify, and make more uniform all of the federal procedural rules.

Proposed Amendments Separate From Style Revision Project

The proposed changes are intended to be primarily stylistic only. However, the Advisory Committee's extensive style review revealed ambiguities and inconsistencies in the rules that required correction. The Advisory Committee proposed a small number of minor “style/substance” amendments that make very modest, noncontroversial changes to the rules. For convenience, the “style/substance” amendments are published together with the proposed style rules, but are separate from the style project. The style/substance amendments to the Civil Rules are: 4, 8, 9, 11, 14, 16, 26, 30, 31, 36, 40, 71A, and 78.

The text of the proposed rules amendments and the accompanying Committee Notes can be found at the United States Federal Courts' Home Page at http://www.uscourts.gov/rules.

The Judicial Conference Committee on Rules of Practice and Procedure submits these proposed rules amendments for public comment. All comments and suggestions with respect to them must be placed in the hands of the Secretary as soon as convenient and, in any event, not later than December 15, 2005. All written comments on the proposed rule amendments can be sent by one of the following three ways: by overnight mail to Peter G. McCabe, Secretary, Committee on Rules of Practice and Procedure of the Judicial Conference of the United States, Thurgood Marshall Federal Judiciary Building, Washington, DC 20544; by electronic mail at http://www.uscourts.gov/rules; or by facsimile to Peter G. McCabe at (202) 502-1766. In accordance with established procedures all comments submitted on the proposed amendments are available to public inspection.

Public hearings are scheduled to be held on the proposed style and “style/substantive” amendments on the following dates:

• October 26, 2005, in San Francisco, California;

• November 18, 2005, in Chicago, Illinois; and

• December 2, 2005, in Washington, DC.

Those wishing to testify should contact the Secretary at the address above in writing at least 30 days before the hearing.

FOR FURTHER INFORMATION CONTACT: John K. Rabiej, Chief, Rules Committee Support Office, Administrative Office of the United States Courts, Washington, DC 20544, telephone (202) 502-1820.

Dated: July 11, 2005.
John K. Rabiej,
Chief, Rules Committee Support Office.

[FR Doc. 05-13879 Filed 7-13-05; 8:45 am]

BILLING CODE 2210-55-M